DEPARTMENT OF HEALTH AND HUMAN SERVICES

Meeting of the President's Council on Sports, Fitness, and Nutrition

AGENCY: President's Council on Sports, Fitness, and Nutrition, Office of the Assistant Secretary for Health, Office of the Secretary, Department of Health and Human Services.

ACTION: Notice of meeting.

SUMMARY: As stipulated by the Federal Advisory Committee Act, the U.S. Department of Health and Human Services (HHS) is hereby giving notice that the President's Council on Sports, Fitness, and Nutrition (PCSFN) will hold its annual meeting. The meeting will be open to the public.

DATES: The meeting will be held on September 21, 2018, from 9:30 a.m. to 12:30 p.m.

ADDRESSES: Newseum, Knight Conference Center 7th Floor, 555 Pennsylvania Ave. NW, Washington, DC 20001.

FOR FURTHER INFORMATION CONTACT: Ms. Holli M. Richmond, Executive Director, Office of the President's Council on Sports, Fitness, and Nutrition, Tower Building, 1101 Wootton Parkway, Suite 560, Rockville, MD 20852, (240) 276-9567. Information about PCSFN, including details about the upcoming meeting, can be obtained at www.fitness.gov.

SUPPLEMENTARY INFORMATION: The primary functions of the PCSFN include (1) advising the President, through the Secretary, concerning progress made in carrying out the provisions of Executive Order 13265, as amended by Executive Order 13824, and recommending to the President, through the Secretary, actions to accelerate such progress; (2) recommending to the Secretary a national strategy to expand children's participation in youth sports, encourage regular physical activity, including active play and promote good nutrition for all Americans. Recommendations may address, but are not necessarily limited to, increasing awareness of the benefits of participation in sports and regular physical activity, as well as the importance of good nutrition; promoting private and public sector strategies to increase participation in sports, encourage regular physical activity, and improve nutrition; developing metrics that gauge youth sports participation and physical activity to inform efforts that will improve participation in sports and regular physical activity among young Americans; and establishing a national and local strategy to recruit volunteers who will encourage and support youth participation in sports and regular physical activity, through coaching, mentoring, teaching, or administering athletic and nutritional programs. The Council's performance of these functions shall take into account the Department of Health and Human Services' Physical Activity Guidelines for Americans, including consideration for youth with disabilities.

The Council shall meet, at a minimum, one time per fiscal year. The meeting will be held to (1) assess ongoing Council activities; and, (2) discuss and plan future projects and programs. The agenda for the planned meeting is being developed and will be posted at www.fitness.gov when it has been finalized.

The meeting that is scheduled to be held on September 21, 2018, is open to the public and the media. Every effort will be made to provide reasonable accommodations for persons with disabilities and/or special needs who wish to attend the meeting. Persons with disabilities and/or special needs should call (240) 276-9567 no later than close of business Monday, September 10, 2018, to request accommodations. Members of the public who wish to attend the meeting are asked to pre-register by sending an email to rsvp.fitness@hhs.gov or by calling (240) 276-9567. Registration for public attendance must be completed before close of business Wednesday, September 12, 2018.

Dated: July 12, 2018.
Holli M. Richmond,
Executive Director, Office of the President's Council on Sports, Fitness, and Nutrition, U.S. Department of Health and Human Services.

[FR Doc. 2018-16056 Filed 7-26-18; 8:45 am]

BILLING CODE 4150-35-P